DEPARTMENT OF ENERGY

Federal Energy Regulatory Commission

Combined Notice of Filings #1

Take notice that the Commission received the following electric corporate filings:

Docket Numbers: EC18-156-000.

Applicants: American Transmission Systems, Incorporated.

Description: Application for Authorization of Transaction under Section 203 of the Federal Power Act, et al. of American Transmission Systems, Incorporated.

Filed Date: 9/14/18.

Accession Number: 20180914-5186.

Comments Due: 5 p.m. ET 10/5/18.

Docket Numbers: EC18-157-000.

Applicants: Wisconsin Public Service Corporation, Wisconsin Power and Light Company, Wisconsin River Power Company.

Description: Joint Application for Authorization under Section 203 of the Federal Power Act of Wisconsin Public Service Corporation, et al.

Filed Date: 9/14/18.

Accession Number: 20180914-5197.

Comments Due: 5 p.m. ET 10/5/18.

Take notice that the Commission received the following exempt wholesale generator filings:

Docket Numbers: EG18-125-000.

Applicants: MC Project Company LLC.

Description: Notice of Self-Certification of Exempt Wholesale Generator Status of MC Project Company LLC.

Filed Date: 9/17/18.

Accession Number: 20180917-5103.

Comments Due: 5 p.m. ET 10/9/18.

Docket Numbers: EG18-126-000.

Applicants: LMBE Project Company LLC.

Description: Notice of Self-Certification of Exempt Wholesale Generator Status of LMBE Project Company LLC.

Filed Date: 9/17/18.

Accession Number: 20180917-5104.

Comments Due: 5 p.m. ET 10/9/18.

Take notice that the Commission received the following electric rate filings:

Docket Numbers: ER10-1276-009; ER10-1292-008; ER10-1287-008; ER10-1303-008; ER10-1319-010; ER10-1353-010; ER18-1183-001; ER18-1184-001

Applicants: Consumers Energy Company, CMS Energy Resource Management Company, Grayling Generation Station Limited Partnership, Genesee Power Station Limited Partnership, CMS Generation Michigan Power, LLC, Dearborn Industrial Generation, L.L.C., Delta Solar Power I, LLC, Delta Solar Power II, LLC.

Description: Notice of Non-Material Change-In-Status of Consumer Energy Company, et al.

Filed Date: 9/14/18.

Accession Number: 20180914-5195.

Comments Due: 5 p.m. ET 10/5/18.

Docket Numbers: ER17-802-002.

Applicants: Exelon Generation Company, LLC.

Description: Compliance filing: Informational Filing Regarding Oyster Creek Generating Station Deactivation to be effective N/A.

Filed Date: 9/14/18.

Accession Number: 20180914-5165.

Comments Due: 5 p.m. ET 10/5/18.

Docket Numbers: ER17-1376-005.

Applicants: Midcontinent Independent System Operator, Inc.

Description: Compliance filing: 2018-09-14 Compliance filing of Stored Energy Resources-Type II to be effective 12/1/2017.

Filed Date: 9/14/18.

Accession Number: 20180914-5181.

Comments Due: 5 p.m. ET 10/5/18.

Docket Numbers: ER18-2433-000.

Applicants: NRG REMA LLC.

Description: Compliance filing: Notice of Succession for Reactive Service Rate Schedule to be effective 8/21/2018.

Filed Date: 9/14/18.

Accession Number: 20180914-5173.

Comments Due: 5 p.m. ET 10/5/18.

Docket Numbers: ER18-2434-000.

Applicants: PJM Interconnection, L.L.C.

Description: Notice of Cancellation of ISA of PJM Interconnection, L.L.C., (SA No. 825; Queue No. AA1-043).

Filed Date: 9/14/18.

Accession Number: 20180914-5188.

Comments Due: 5 p.m. ET 10/5/18.

Docket Numbers: ER18-2435-000.

Applicants: ORNI 41 LLC.

Description: Baseline eTariff Filing: Petition for Approval of Initial Market-Based Rate Tariff to be effective 10/1/2018.

Filed Date: 9/17/18.

Accession Number: 20180917-5027.

Comments Due: 5 p.m. ET 10/9/18.

Docket Numbers: ER18-2436-000.

Applicants: Mid-Atlantic Interstate Transmission, LLC, PJM Interconnection, L.L.C.

Description: § 205(d) Rate Filing: MAIT submits IA SA No. 4578 to be effective 11/16/2018.

Filed Date: 9/17/18.

Accession Number: 20180917-5074.

Comments Due: 5 p.m. ET 10/9/18.

Docket Numbers: ER18-2437-000.

Applicants: Southwest Power Pool, Inc.

Description: § 205(d) Rate Filing: Revisions to Schedule 12 FERC Annual Charge Calculation to be effective 3/1/2019.

Filed Date: 9/17/18.

Accession Number: 20180917-5091.

Comments Due: 5 p.m. ET 10/9/18.

Docket Numbers: ER18-2438-000.

Applicants: Midcontinent Independent System Operator, Inc.

Description: Compliance filing: 2018-09-17_Compliance Filing to Address Self-Fund EL15-68; EL15-36; ER16-696 to be effective 7/10/2018.

Filed Date: 9/17/18.

Accession Number: 20180917-5105.

Comments Due: 5 p.m. ET 10/9/18.

Docket Numbers: ER18-2439-000.

Applicants: ITC Midwest LLC.

Description: § 205(d) Rate Filing: Amended and Restated Interconnection/Interchange/JCA to be effective 11/17/2018.

Filed Date: 9/17/18.

Accession Number: 20180917-5113.

Comments Due: 5 p.m. ET 10/9/18.

Take notice that the Commission received the following public utility holding company filings:

Docket Numbers: PH18-13-000.

Applicants: Citizens Energy Corporation.

Description: Citizens Energy Corporation submits FERC 65-B Notification of Change in Status.

Filed Date: 9/13/18.

Accession Number: 20180913-5135.

Comments Due: 5 p.m. ET 10/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2018.
Nathaniel J. Davis, Sr.,
Deputy Secretary.

[FR Doc. 2018-20729 Filed 9-21-18; 8:45 am]

BILLING CODE 6717-01-P